DEPARTMENT OF AGRICULTURE

Forest Service

New Ski Area Water Rights Clause

AGENCY: Forest Service, USDA.

ACTION: Notice of meeting; request for public input.

SUMMARY: There will be three open houses, one in Denver, Colorado; one in Salt Lake City, Utah; and one in Lake Tahoe, California, to provide initial public input on a new water rights clause for ski area permits issued by the Forest Service. There will be several stations at the open houses that will remain open from 4:00 p.m. to 6:30 p.m.; there will be no presentations by the Forest Service. The open houses will allow the public to provide comments and suggestions that the Forest Service will consider in developing a new ski area water rights clause. There will be another opportunity for the public to comment when the proposed clause is published in the Federal Register for public notice and comment.

DATES: The open houses will be held in Denver, Colorado, on April 16, 2013, from 4:00 p.m. to 6:30 p.m.; in Salt Lake City, Utah, on April 17, 2013, from 4:00 p.m. to 6:30 p.m.; and in Lake Tahoe, California, on April 18, 2013, from 4:00 p.m. to 6:30 p.m.

ADDRESSES: The open houses will be held at the offices of the U.S. Fish and Wildlife Service, 134 Union Boulevard, first floor conference room, in Lakewood, Colorado, on April 16, 2013; at the offices of the Utah Department of Natural Resources, 1594 West North Temple, Suite 3710, in Salt Lake City, Utah, on April 17, 2013; and the offices of the Forest Service's Lake Tahoe Basin Management Unit, 35 College Drive, in South Lake Tahoe, California, on April 18, 2013.

FOR FURTHER INFORMATION CONTACT: Loren Kroenke, Winter Sports Program Manager, Recreation, Heritage, and Volunteer Resources Staff, at 801-975-3793. Individuals who use telecommunication devices for the deaf may call the Federal Information Relay Service at 800-877-8339 between 8:00 a.m. and 8:00 p.m., Eastern Daylight Time, Monday through Friday.

Dated: April 4, 2013.
Leslie A. C. Weldon,
Deputy Chief, National Forest System.

[FR Doc. 2013-08391 Filed 4-9-13; 8:45 am]

BILLING CODE 3410-11-P